Title 3—

The President

Proclamation 7301 of May 2, 2000

Older Americans Month, 2000

By the President of the United States of America

A Proclamation

Older Americans are a treasured link to our past. With courage, hard work, and unwavering devotion to family, community, and country, our older citizens helped to make the 20th century the American century. They preserved our freedom through the crucible of World War II; opposed Communist aggression in Korea and through the long, dark years of the Cold War; marched for labor reform and civil rights; raised their families, volunteered in their communities, and often postponed their own dreams to fulfill the dreams of their children. Their character, values, and patriotism laid the foundation for the peace and prosperity we enjoy today.

Older Americans have indeed contributed much to the story of our past; and they have much still to offer our future. Today, people are living longer, more active, and more independent lives than ever before, and one in four Americans between the ages of 65 and 69 has a job, either part-time or full-time. Many older Americans want to work, are able to work, and have skills and experience that businesses need in today's booming economy.

Recognizing the changing role of older men and women in our society, this year the Congress unanimously passed, and I was pleased to sign into law, the Senior Citizens' Freedom to Work Act of 2000, which ushers in a new era of opportunity for older Americans. Before passage of this landmark legislation, seniors who continued to work after age 65 risked having some of their Social Security benefits withheld until they stopped working or turned 70 years old. By eliminating this confusing and outdated retirement earnings test, the new legislation will ensure that millions of older workers who wish to continue working will be able to keep their full Social Security benefits regardless of their age or earning level.

It is appropriate that we enact this new law in the year when we celebrate the 65th anniversary of Social Security and the 35th anniversary of Medicare, Medicaid, and the Older Americans Act. Millions of older citizens have been assisted by these programs, and, as the baby boom generation ages, millions more will be relying on them in this new century.

To recognize the profound debt our Nation owes its older citizens, and to prepare wisely for the impact that increasing longevity will have on nearly every aspect of our society in the coming years, we must reaffirm our commitment to saving Social Security, strengthening Medicare—including a prescription drug benefit—and modernizing, improving, and reauthorizing the Older Americans Act. We must also enact my Administration's long-term care initiative, which, among other important measures, provides tax relief and support services to the millions of family caregivers who devote countless hours to helping older loved ones remain in their homes and communities. By doing so, we can both honor the immeasurable contributions that older men and women bring to our national life and ensure that they lead independent, active, fulfilling lives for many years to come.

NOW, THEREFORE, I, WILLIAM J. CLINTON, President of the United States of America, by virtue of the authority vested in me by the Constitution and laws of the United States, do hereby proclaim May 2000 as Older Americans Month. I urge Government officials, business people, community leaders, educators, volunteers, and all the people of the United States to celebrate the contributions older Americans have made, and continue to make, to the progress and prosperity of our Nation.

IN WITNESS WHEREOF, I have hereunto set my hand this second day of May, in the year of our Lord two thousand, and of the Independence of the United States of America the two hundred and twenty-fourth.

wj

[FR Doc. 00-11335

Filed 5-3-00; 8:45 am]

Billing code 3195-01-P